DEPARTMENT OF LABOR

Employment and Training Administration

[TA-W-54,107]

Manpower, Inc., Roswell, NM; Notice of Termination of Investigation

Pursuant to section 221 of the Trade Act of 1974, as amended, an investigation was initiated on January 29, 2004 in response to a worker petition filed by one worker on behalf of workers of Manpower Inc., Roswell, New Mexico.

To be valid, petitions must be filed by three workers, their duly authorized representative, or a state agency. The petition regarding the investigation has therefore been deemed invalid. Consequently, the investigation has been terminated.

Signed at Washington, DC, this 30th day of January 2004.
Richard Church,
Certifying Officer, Division of Trade Adjustment Assistance.

[FR Doc. 04-3313 Filed 2-13-04; 8:45 am]

BILLING CODE 4510-30-P